DEPARTMENT OF DEFENSE

Office of the Secretary

Defense Advisory Committee on Military Compensation

AGENCY: DoD.

ACTION: Notice; public meeting of the Defense Advisory Committee on Military Compensation.

SUMMARY: Name of Committee: The Defense Advisory Committee on Military Compensation (DACMC).

Committee Membership: Chairman: ADM (Ret) Donald L. Pilling. Members: Dr. John P. White; Gen (Ret) Lester L. Lyles; Mr. Frederic W. Cook; Dr. Walter Oi; Dr. Martin Anderson; and Mr. Joseph E. Jannotta.

General Function of the Committee: The Committee will provide the Secretary of Defense, through the Under Secretary of Defense (Personnel and Readiness), with assistance and advice on matters pertaining to military compensation. The Committee will examine what types of military compensation and benefits are the most effective for meeting the needs of the Nation.

Agenda: On June 7, 2005, from 10 a.m. to 12 p.m., the Committee will discuss various aspects of the military pay and benefits system, specifically examining issues identified in the Committee's initial meeting in May 2005.

Procedure: Public participation in Committee discussions at this meeting will not be permitted. Written submissions of data, information, and views may be sent to the Committee contact person at the address shown. Submissions should be received by close of business June 1, 2005. Persons attending are advised that the Committee is not responsible for providing access to electrical outlets.

DATES: Tuesday, June 7, 2005, from 10 a.m. to 12 p.m.

ADDRESSES: Crystal City Hilton, 2399 Jefferson Davis Highway, Arlington, VA 22202.

FOR FURTHER INFORMATION CONTACT: Contact Mr. Terry Mintz, Designated Federal Official, Defense Advisory Committee on Military Compensation, 2521 S. Clark Street, Arlington, VA 22202. Telephone: 703-699-2700.

Dated: May 5, 2005.
Jeannette Owings-Ballard,
OSD Federal Register Liaison Officer, Department of Defense.

[FR Doc. 05-9417 Filed 5-10-05; 8:45 am]

BILLING CODE 5001-06-M